DEPARTMENT OF ENERGY

Federal Energy Regulatory Commission

Combined Notice of Filings #1

Take notice that the Commission received the following electric rate filings:

Docket Numbers: ER10-1707-002; ER11-3623-001; ER11-3460-003.

Applicants: Hess Corporation, Hess Small Business Services LLC, Bayonne Energy Center, LLC.

Description: Notice of Change in Status of Hess Corporation, et al.

Filed Date: 1/24/13.

Accession Number: 20130124-5103.

Comments Due: 5 p.m. ET 2/14/13.

Docket Numbers: ER10-2331-017; ER10-2343-017; ER10-2319-016; ER10-2320-016; ER10-2317-015; ER10-2322-017; ER10-2324-016; ER10-2325-015; ER10-2332-016; ER10-2326-017; ER10-2327-018; ER10-2328-016; ER11-4609-015; ER10-2330-017.

Applicants: J.P. Morgan Ventures Energy Corporation, J.P. Morgan Commodities Canada Corporation, BE Alabama LLC, BE Allegheny LLC, BE CA LLC, BE Ironwood LLC, BE KJ LLC, BE Louisiana LLC, BE Rayle LLC, Cedar Brakes I, L.L.C., Cedar Brakes II, L.L.C., Central Power & Lime LLC, Triton Power Michigan LLC, Utility Contract Funding, L.L.C.

Description: JPMorgan Sellers Notice of Non-Material Change in Status re: NewPage Corporation.

Filed Date: 1/22/13.

Accession Number: 20130122-5387.

Comments Due: 5 p.m. ET 2/12/13.

Docket Numbers: ER13-487-001.

Applicants: Dogwood Energy LLC.

Description: Dogwood Energy LLC submits Amendment to Category 1 Filing to be effective 8/30/2010.

Filed Date: 1/24/13.

Accession Number: 20130124-5108.

Comments Due: 5 p.m. ET 2/14/13.

Docket Numbers: ER13-791-000.

Applicants: Midwest Independent Transmission System Operator, Inc.

Description: 01-23-2013 METC-Traverse City Light & Power IFA to be effective 3/24/2013.

Filed Date: 1/23/13.

Accession Number: 20130123-5164.

Comments Due: 5 p.m. ET 2/13/13.

Docket Numbers: ER13-792-000.

Applicants: New York Independent System Operator, Inc., PJM Interconnection, L.L.C.

Description: NYISO filing of Tariffs and NYISO/PJM JOA to Implement HTP Scheduled Line to be effective 4/15/2013.

Filed Date: 1/24/13.

Accession Number: 20130124-5053.

Comments Due: 5 p.m. ET 2/14/13.

Docket Numbers: ER13-793-000.

Applicants: East Kentucky Power Cooperative, Inc.

Description: East Kentucky Power Cooperative Petition to Submit to PJM a Transitional Fixed Resource Requirement Plan for Integration into PJM.

Filed Date: 1/23/13.

Accession Number: 20130123-5201.

Comments Due: 5 p.m. ET 2/13/13.

Docket Numbers: ER13-794-000.

Applicants: California Independent System Operator Corporation.

Description: California Independent System Operator Corporation submits tariff filing per 35.13(a)(2)(iii: 2013—CAISO's Rate Schedule No. 65 to be effective 4/1/2013.

Filed Date: 1/24/13.

Accession Number: 20130124-5099.

Comments Due: 5 p.m. ET 2/14/13.

Docket Numbers: ER13-795-000.

Applicants: North American Energy, LLC.

Description: Notice of Cancellation of North American Energy, LLC.

Filed Date: 1/24/13.

Accession Number: 20130124-5107.

Comment Due: 5 p.m. ET 2/14/13.

Docket Numbers: ER13-796-000.

Applicants: Central Hudson Gas & Electric Corporation.

Description: Central Hudson Gas & Electric Corporation submits FERC Rate Schedule 202—2012 Update to be effective 1/10/2013.

Filed Date: 1/24/13.

Accession Number: 20130124-5113.

Comments Due: 5 p.m. ET 2/14/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 24, 2013.
Nathaniel J. Davis, Sr.,
Deputy Secretary.

[FR Doc. 2013-02183 Filed 1-31-13; 8:45 am]

BILLING CODE 6717-01-P